DEPARTMENT OF COMMERCE

International Trade Administration

[C-122-858]

Certain Softwood Lumber Products From Canada: Initiation of Expedited Review of the Countervailing Duty Order

AGENCY: Enforcement and Compliance, International Trade Administration, Department of Commerce.

SUMMARY: The Department of Commerce (Commerce) is initiating an expedited review of the countervailing duty order on certain softwood lumber products (softwood lumber) from Canada.

DATES: Applicable March 8, 2018.

FOR FURTHER INFORMATION CONTACT: Kristen Johnson or Emily Halle, AD/CVD Operations, Enforcement and Compliance, International Trade Administration, U.S. Department of Commerce, 14th Street and Constitution Avenue NW, Washington, DC 20230; telephone (202) 482-4793 or (202) 482-0176, respectively.

SUPPLEMENTARY INFORMATION:

Background

On January 3, 2018, Commerce published the countervailing duty order on softwood lumber from Canada.¹ Between January 10, 2018, and February 5, 2018, Commerce received requests for an expedited review from 34 companies.² These companies, which were not selected for individual examination during the investigation, made these requests pursuant to 19 CFR 351.214(k).

¹ See Certain Softwood Lumber Products from Canada: Amended Final Affirmative Countervailing Duty Determination and Countervailing Duty Order, 83 FR 347 (January 3, 2018).

² See Attachment for a list of the companies that requested an expedited review.

Initiation of Expedited Review

In accordance with 19 CFR 351.214(k)(1)(i)-(iii), each company that requested a review certified that it exported the subject merchandise to the United States during the period of investigation; that it was not affiliated with an exporter or producer that Commerce individually examined in the investigation; and that it informed the Government of Canada, as the government of the exporting country, that the government will be required to provide a full response to Commerce's questionnaire.

Therefore, in accordance with 19 CFR 351.214(k), we are initiating an expedited review of the countervailing duty order on softwood lumber from Canada. Pursuant to 19 CFR 351.214(i)(1) and (k)(3), we intend to issue the preliminary results of this expedited review not later than 180 days from the date of initiation of this review.³ As specified by 19 CFR 351.214(k)(3)(i), the period of review will be the same as the original period of investigation, i.e., January 1, 2015, through December 31, 2015.

³ Under 19 CFR 351.214(k)(i)(2), this period may be extended to 300 days.

Pursuant to 19 CFR 351.214(k)(3)(iii), the final results of this expedited review will not be the basis for the assessment of countervailing duties. Instead, this expedited review is intended to establish individual cash deposit rates for those companies that requested an expedited review, or to exclude from the countervailing duty order a company for which the final results of expedited review are zero or de minimis, as provided in 19 CFR 351.214(k)(3)(iv).

Pursuant to 19 CFR 351.214(f), we will rescind the expedited review for any company that withdraws its request for expedited review within 60 days after the date of publication of this notice of initiation.

Interested parties must submit applications for disclosure under administrative protective orders in accordance with 19 CFR 351.305 and 351.306.

This initiation and notice are issued and published in accordance with 19 CFR 351.214(k)(2)(i) and 19 CFR 351.221(c)(i).

Dated: March 1, 2018.
Gary Taverman,
Deputy Assistant Secretary for Antidumping and Countervailing Duty Operations, performing the non-exclusive functions and duties of the Assistant Secretary for Enforcement and Compliance.

Attachment

Below is the list of companies that requested an expedited review of the countervailing duty order on softwood lumber from Canada.

(1) 752615 B.C. Ltd., Fraserview Remanufacturing Inc., Gillwood Lumber, dba Fraserview Cedar Products

(2) Antrim Cedar Corporation

(3) Aquila Cedar Products Ltd.

(4) Canadian Bavarian Millwork and Lumber

(5) Canyon Lumber Company Ltd.

(6) Cedarline Industries Ltd.

(7) Central Cedar Ltd.

(8) Chaleur Sawmills LP

(9) Deep Cove Forest Products Inc.

(10) Delco Forest Products Ltd.

(11) Devon Lumber Co. Ltd.

(12) Fontaine Inc.

(13) Haida Forest Products Ltd.

(14) Hainesville Sawmill Ltd.

(15) H.J. Crabbe & Sons Ltd.

(16) Ivor Forest Products Ltd.

(17) Leslie Forest Products Ltd.

(18) Les Produits Forestiers D&G Ltée

(19) Maibec Inc

(20) Marcel Lauzon Inc

(21) Marwood Ltd.

(22) Matériaux Blanchet Inc.

(23) Mobilier Rustique (Beauce) Inc.

(24) MP Atlantic Wood Ltd.

(25) North American Forest Products Ltd.

(26) North Enderby Timber Ltd.

(27) Olympic Industries, Inc.

(28) Pacific Lumber Remanufacturing Inc.

(29) Power Wood Corp.

(30) Produits Matra Inc.

(31) Rielly Lumber Inc.

(32) Roland Boulanger & Cie Itée

(33) Sechoirs de Beauce Inc.

(34) Scierie Alexandre Lemay & Fils Inc.

[FR Doc. 2018-04678 Filed 3-7-18; 8:45 am]

BILLING CODE 3510-DS-P